DEPARTMENT OF COMMERCE

Foreign-Trade Zones Board

[Order No. 1127]

Expansion of Foreign-Trade Zone 22 Chicago, Illinois

Pursuant to its authority under the Foreign-Trade Zones Act of June 18, 1934, as amended (19 U.S.C. 81a-81u), the Foreign-Trade Zones Board (the Board) adopts the following Order:

Whereas, the Illinois International Port District, grantee of Foreign-Trade Zone No. 22, submitted an application to the Board for authority to expand FTZ 22-Site 3 in the Chicago, Illinois area, within the Chicago Customs port of entry (FTZ Docket 1-2000, filed 1/4/00);

Whereas, notice inviting public comment was given in the Federal Register (65 FR 2375, January 1, 2000) and the application has been processed pursuant to the FTZ Act and the Board's regulations; and

Whereas, the Board adopts the findings and recommendations of the examiner's report, and finds that the requirements of the FTZ Act and Board's regulations are satisfied, and that the proposal is in the public interest;

Now, Therefore, the Board hereby orders:

The application to expand FTZ 22-Site 3 is approved, subject to the Act and the Board's regulations, including § 400.28.

Signed at Washington, DC, this 21st day of November 2000.
Troy H. Cribb,
Assistant Secretary of Commerce for Import Administration, Alternate Chairman, Foreign-Trade Zones Board.

[FR Doc. 00-31108 Filed 12-5-00; 8:45 am]

BILLING CODE 3510-DS-P